DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on June 28, 2006, vol. 71, no. 124, pages 36869-36870. The FAA requires the information in the interest of aviation safety to protect aircraft operations from the potential hazardous effect of laser emissions.

DATES: Please submit comments by January 4, 2007.

FOR FURTHER INFORMATION CONTACT: Carla Mauney at Carla.Mauney@faa.gov.

SUPPLEMENTARY INFORMATION:

Federal Aviation Administration (FAA)

Title: Laser Operations in the Navigable Airspace (Advisory Circular (AC), Outdoor Laser Operations).

Type of Request: Extension without change of a currently approved collection.

OMB Control Number: 2120-0662.

Form(s): There are no FAA forms associated with this collection.

Affected Public: An estimated 20 Respondents.

Frequency: This information is collected on occasion.

Estimated Average Burden per Response: Approximately 11 hours per response.

Estimated Annual Burden Hours: An estimated 2,200 hours annually.

Abstract: The FAA requires the information in the interest of aviation safety to protect aircraft operations from the potential hazardous effect of laser emissions. The information collected is reviewed for its impact on aviation in the vicinity of the laser activity. Upon completion of the review of the information the FAA issues a letter of determination to the respondent in regard to their request.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on November 28, 2006.
Carla Mauney,
FAA Information Collection Clearance Officer, Strategy and Investment Analysis Division, AIO-20.

[FR Doc. 06-9507 Filed 12-4-06; 8:45 am]

BILLING CODE 4910-13-M